DEPARTMENT OF TRANSPORTATION

Federal Aviation Administration

Notice of Intent To Rule on Request To Release Airport Property at the Abilene Regional Airport, Abilene, Texas

AGENCY: Federal Aviation Administration (FAA), DOT.

ACTION: Notice of request to release airport property.

SUMMARY: The FAA proposes to rule and invite public comment on the release of land at the Abilene Regional Airport, Abilene, Texas under the provisions of Section 125 of the Wendell H. Ford Aviation Investment Reform Act for the 21st Century (AIR 21).

DATES: Comments must be received on or before June 19, 2017.

ADDRESSES: Comments on this application may be mailed or delivered to the FAA at the following address: Mr. Ben Guttery, Manager, Federal Aviation Administration, Southwest Region, Airports Division, Texas Airports District Office, ASW-650, 10101 Hillwood Parkway, Fort Worth, Texas 76177.

In addition, one copy of any comments submitted to the FAA must be mailed or delivered to Mr. Don Green, Director of Transportation Services, at the following address: Abilene Regional Airport, 2933 Airport Blvd.; Suite 200, Abilene, Texas 77554.

FOR FURTHER INFORMATION CONTACT: Mr. Marcelino Sanchez, Program Manager, Federal Aviation Administration, Texas Airports District Office, ASW-650, 10101 Hillwood Parkway, Fort Worth, TX 76177, Telephone: (817) 222-5652, Email: Marcelino.Sanchez@faa.gov.

The request to release property may be reviewed in person at this same location.

SUPPLEMENTARY INFORMATION: The FAA invites public comment on the request to release property at the Abilene Regional Airport, Abilene, Texas under the provisions of the AIR 21.

The following is a brief overview of the request: City of Abilene, Abilene, Texas requests the release of 51.891 acres of non-aeronautical airport property. The property is located adjacent to State Highway Loop 322 and on the west side of the airport. The property to be released will be sold and revenues shall be used as local matching funds for future AIP grants, development of common use facilities and utilities within airport property. Any person may inspect the request in person at the FAA office listed above under FOR FURTHER INFORMATION CONTACT.

In addition, any person may, upon request, inspect the application, notice and other documents relevant to the application in person at the Abilene Regional Airport, telephone number (325) 676-6061.

Issued in Fort Worth, Texas on May 4, 2017.
Ignacio Flores,
Director, Airports Division.

[FR Doc. 2017-10198 Filed 5-18-17; 8:45 am]

BILLING CODE P